DEPARTMENT OF COMMERCE

Agency Information Collection Activities; Withdrawal of Prior Notice and Proposed Submission of Information Collection for OMB Review; Comment Request; Medical Exception Request

AGENCY: Department of Commerce.

ACTION: Notice of withdrawal; notice of intent to request extension of OMB approval of information collection.

SUMMARY: The Department of Commerce (Department) published a notice in the Federal Register of its intent to request that the Office of Management and Budget (OMB) extend approval, without change, under the Paperwork Reduction Act (PRA), to a collection of information for its employees to request a medical exception to the COVID-19 vaccination requirement on January 25, 2022. That notice is withdrawn in light of the January 21, 2022 nationwide preliminary injunction enjoining implementation and enforcement of the federal employee vaccination requirement pursuant to the President's Executive Order 14043 of September 9, 2021, “Requiring Coronavirus Disease 2019 Vaccination for Federal Employees.” The Department seeks comment on its new notice of intent to request that OMB approve, without change, under the PRA, a collection of information for its employees to request a medical exception to the COVID-19 vaccination requirement.

DATES: As of February 15, 2022, the notice published January 25, 2022 (87 FR 3759), is withdrawn. Comments on this notice of intent must be submitted on or before April 18, 2022.

ADDRESSES: Interested persons are invited to submit written comments to the Department of Commerce, PRA Clearance Officer at PRAcomments@doc.gov. All comments received are part of the public record. Comments will generally be posted without change. All Personally Identifiable Information (for example, name and address) voluntarily submitted by the commenter may be publicly accessible. Do not submit Confidential Business Information or otherwise sensitive or protected information.

FOR FURTHER INFORMATION CONTACT: Requests for additional information should be directed to the Attn: Zack Schwartz, Chief of Staff to the Acting CFO and Assistant Secretary for Administration, Commerce Headquarters, at (202) 577-1769; or via email: ZSchwartz@doc.gov.

SUPPLEMENTARY INFORMATION: This notice supersedes the notice published on January 25, 2022 (87 FR 3759), which the Department withdraws.

Under Executive Order 14043, every Federal agency must “implement, to the extent consistent with applicable law, a program to require COVID-19 vaccination for all of its Federal employees, with exceptions only as required by law.” In following this directive, the Department imposed a requirement that its employees must receive and submit proof of COVID-19 vaccination. As required by 29 U.S.C. 701 et seq. and 29 CFR part 1630, the Department allows an exception from the vaccination requirement for employees who demonstrate medical reasons or disabilities that would make the COVID-19 vaccine unsafe for them. To obtain this exception, employees can submit the Request for Medical Exception to the COVID-19 Vaccination Requirement form available from the Department's COVID-19 Information Hub. The Department uses the information on this form to verify employees' assertions that they are entitled to an exception to the COVID-19 vaccination requirement because of their medical or disability statuses.

OMB Control Number: 0690-0036.

Form Number(s): None.

Type of Review: Regular submission; Extension of an already approved collection.

Affected Public: Federal employees and medical providers.

Estimated Number of Respondents: 1,000.

Estimated Time per Response: 10 minutes.

Estimated Total Annual Burden Hours: 167.

Estimated Total Annual Cost to Public: $9,321.

Respondent's Obligation: Voluntary.

Legal Authority: Executive Order (E.O.) 14043.

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this information collection request. Before including your address, phone number, email address, or other personal identifying information in your comment, you should be aware that your entire comment—including your personal identifying information—may be made publicly available at any time. While you may ask us in your comment to withhold your personal identifying information from public review, we cannot guarantee that we will be able to do so.

A Notice Regarding Injunctions: The vaccination requirement issued pursuant to E.O. 14043, “Requiring Coronavirus Disease 2019 Vaccination for Federal Employees” is currently the subject of a nationwide injunction. While that injunction remains in place, the Department will not process requests for a medical exception from the COVID-19 vaccination requirement pursuant to E.O. 14043. The Department will also not request the submission of any medical information related to a request for an exception from the vaccination requirement pursuant to E.O. 14043 while the injunction remains in place. But the Department may nevertheless receive information regarding a medical exception. That is because, if the Department were to receive a request for an exception from the COVID-19 vaccination requirement pursuant to E.O. 14043 during the pendency of the injunction, the Department will accept the request, hold it in abeyance, and notify the employee who submitted the request that implementation and enforcement of the COVID-19 vaccination requirement pursuant to E.O. 14043 is currently enjoined and that an exception therefore is not necessary so long as the injunction is in place. In other words, during the pendency of the injunction, any information collection related to requests for medical exception from the COVID-19 vaccination requirement pursuant to E.O. 14043 is not undertaken to implement or enforce the COVID-19 vaccination requirement.

Sheleen Dumas,
Department PRA Clearance Officer, Office of the Chief Information Officer, Commerce Department.

[FR Doc. 2022-03184 Filed 2-14-22; 8:45 am]

BILLING CODE 3510-17-P